DEPARTMENT OF THE INTERIOR

Bureau of Land Management

[9000; CA-690-08-1020-EE]

Notice of Intent To Amend the California Desert Conservation Area Plan, California

AGENCY: Department of the Interior, Bureau of Land Management.

ACTION: Notice of Intent.

SUMMARY: The Bureau of Land Management (BLM), Needles Field Office intends to prepare an amendment to the California Desert Conservation Area (CDCA) Plan with an associated environmental assessment (EA). This notice initiates the public participation and scoping processes for the CDCA Plan amendment and environmental assessment.

DATES: Public comments will be accepted throughout the plan amendment and EA process, but to be most beneficial comments on issues and potential impacts should be submitted in writing to the address listed below within 30 days following the publication of this notice in the Federal Register.

ADDRESSES: Comments and other correspondence regarding issues and planning criteria should be sent to the BLM, Needles Field Office, attention George R. Meckfessel, Planning and Environmental Coordinator, Needles Field Office, Bureau of Land Management, 1303 South US Highway 95, Needles, California 92363. Documents pertinent to this notice, including comments of respondents, will be available for public review at the Needles Field Office, California during regular business hours (7:30 a.m. to 4 p.m.) Monday through Friday, except holidays.

FOR FURTHER INFORMATION CONTACT: For further information or to have your name added to the project mailing list, contact George R. Meckfessel, (760) 326-7008, or e-mail George_Meckfessel@ca.blm.gov.

SUPPLEMENTARY INFORMATION: This document provides notice that the BLM, Needles Field Office intends to prepare an amendment to the CDCA Plan with an associated environmental assessment that would make all or a portion of the Valley Wells Allotment unavailable for grazing. The allotment consists of 223,000 acres and is located in northeastern San Bernardino County, California. The allotment includes portions of the North Mesquite Mountains Wilderness, Mesquite Wilderness, Kingston Range Wilderness, and the Hollow Hills Wilderness areas.

The proposal to make a portion or all of the allotment unavailable for grazing livestock does not conform to the CDCA Plan and, therefore, requires the development of a plan amendment.

Approximately half of the allotment is within a Desert Wildlife Management Area (DWMA), designated by the BLM through the Northern and Eastern Mojave Plan amendment (2002) to the CDCA Plan. Most, but not all, of the DWMA contains critical habitat for the threatened desert tortoise (Gopherus agassizii), designated by the U.S. Fish and Wildlife Service (USFWS). Making all or a portion of the allotment unavailable for grazing would complement and enhance implementation of the USFWS Desert Tortoise (Mojave Population) Recovery Plan (1994). Comparable desert tortoise habitat within the allotment is contained in, and outside, the DWMA.

Additional benefits to non-listed species and habitats, such as the BLM sensitive Rusby's desert mallow (Sphaeralcea rusbyi ssp. eremicola) and the Mojave fringe-toed lizard (Uma scoparia), would also be realized by removal of cattle grazing from all or portions of the allotment.

Preliminary issues identified include: air quality; areas of critical environmental concern; cultural resources; environmental justice; livestock grazing; Native American religious concerns; socioeconomics; soils, water quality; wetlands/riparian zones; wilderness; wildlife, including threatened or endangered species; and vegetation, including invasive species.

Preliminary planning criteria include: 1. Developing the plan amendment in compliance with Federal Land Policy and Management Act, all other applicable laws, regulations, executive orders, and BLM supplemental program guidance; 2. developing an EA in the planning process that will comply with National Environmental Policy Act standards; 3. initiating government to government consultation, including tribal interests; 4. incorporating by reference the Standards for Rangeland Health and Guidelines for Livestock Grazing Management into the plan amendment/EA; 5. complying with Appendix C of BLM's Planning Handbook (H 1601-1) in making resource specific determinations; 6. assuring that the plan amendment is compatible, to the extent possible, with existing plans and policies of adjacent local, State, Tribal, and Federal agencies; and, 7. consider the extent to which the plan amendment achieves the recovery goals outlined in the Desert Tortoise (Mojave Population) Recovery Plan and the Northern and Eastern Mojave Plan amendment to the CDCA Plan.

You may submit comments on issues and planning criteria in writing to the BLM using one of the methods listed in the “ADDRESSES” section above. To be most helpful, you should submit comments within 30 days after the date of publication of this notice. Before including your address, phone number, email address, or other personal identifying information in your comment, you should be aware that your entire comment—including your personal identifying information—may be made publicly available at any time. While you can ask us in your comment to withhold your personal identifying information from public review, we cannot guarantee that we will be able to do so.

The BLM will place issues identified during scoping into one of three categories:

1. Issues to be resolved in the plan amendment;

2. Issues to be resolved through policy or administrative action; or

3. Issues beyond the scope of this plan amendment.

The BLM will provide an explanation in the plan as to why an issue was placed in category two or three. The public is also encouraged to help identify any management questions and concerns that should be addressed in the plan amendment. The BLM will work collaboratively with interested parties to identify the management decisions that are best suited to local, regional, and national needs and concerns.

The BLM will use an interdisciplinary approach to develop the plan amendment in order to consider the variety of resource issues and concerns identified. Specialists with expertise in the following disciplines that will be involved in the planning process include but are not limited to rangeland management, wilderness, sensitive species (plants and animals,) cultural resources, and recreation.

Dated: September 16, 2008.
Rodney Mouton,
Acting Field Manager.

[FR Doc. E8-22766 Filed 9-30-08; 8:45 am]

BILLING CODE 4310-40-P